DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Coastal Zone Management Program Administration.

Form Number(s): None.

OMB Approval Number: 0648-0119.

Type of Request: Regular submission.

Burden Hours: 8,125.

Number of Respondents: 34.

Average Hours per Response: Coastal Zone Management Act (CZMA) Performance Management System data entry, 27 hours; CZMA sections 306/306A/309/310/6217—section A, B and C semi-annual performance reports (first year of awards), 27 hours; second year of awards, 10 hours; third year of awards, 5 hours; section C annual performance reports, 8 hours; amendments and program changes documentation, 8 hours; section 306A documentation, 5 hours; section 309 assessment and strategy documents, 240 hours; Nonpoint Pollution Control program, 4 hours; Section 301—section A semi-annual performance reports, 1 hour.

Needs and Uses: Under the authority of the Coastal Zone Management Act of 1972, coastal zone management grants provide funds to states and territories to implement federally approved coastal zone management plans, revise assessment documents and multi-year strategies, submit requests to approve amendments or program changes, and to submit section 306A documentation on their approved coastal zone management plans. Funds are also provided to states and territories to develop their coastal management documents. The information submitted is used to determine if activities achieve national coastal management and enhancement objectives and whether states and territories are adhering to their approved plans.

Affected Public: State, Local or Tribal Government.

Frequency: Semi-annually, annually and on occasion.

Respondent's Obligation: Required to obtain or maintain benefits.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: January 13, 2009.
Gwellnar Banks,
Management Analyst, Office of the Chief Information Officer.

[FR Doc. E9-993 Filed 1-16-09; 8:45 am]

BILLING CODE 3510-22-P